DEPARTMENT OF TRANSPORTATION

Federal Transit Administration

Notice of Granted Buy America Waiver

AGENCY: Federal Transit Administration (FTA), DOT.

ACTION: Notice of Granted Buy America Waiver.

SUMMARY: This waiver allows ticket vending machine manufacturers to install the banknote handling unit (BHU) manufactured by Mars Electronics International and count it as domestic for purposes of Buy America compliance. It is predicated on the non-availability of the item domestically and was granted on July 21, 2000, for the period of two years, or until such time as a domestic source for this BHU becomes available, whichever occurs first. This notice shall insure that the public, particularly potential manufacturers, is aware of this waiver. FTA requests that the public notify it of any relevant changes in the domestic market. FTA also granted an identical waiver to Giesecke & Devrient, a competitor of mars and manufacturer of a similar device. That waiver is published elsewhere in today's Federal Register.

FOR FURTHER INFORMATION CONTACT: Meghan G. Ludtke, FTA Office of Chief Counsel, Room 9316, (202) 366-4011 (telephone) or (202) 366-3809 (fax).

SUPPLEMENTARY INFORMATION: The above-referenced waiver follows:

July 21, 2000.

Mr. Cassius L. Jones, Industry Manager, Mars Electronics International, 1301 Wilson Drive, West Chester, Pennsylvania 19380-5953.

Re: Application for Waiver of Buy America for Automated Fare Collection System Component

Dear Mr. Jones: This letter responds to your correspondence of March 16, 2000, in which you request a Buy America component waiver based upon nonavailability for certain bank note handling units (BHU) manufactured for use in ticket vending machines. The unique nature of the BHU's at issue is the ability to return inserted bills when a transaction is not completed.

On May 13, 1992, the Federal Transit Administration (FTA) granted Mars a waiver for the BSN385/39 BHU for the period of two years, this waiver was extended for another two years on January 11, 1994. On February 21, 1996, FTA extended the waiver for the BNA52/54, the successor to the BSN385/39 for two more years. On May 13, 1998, you requested another extension and on August 4, 1998, FTA responded, asking for information supporting your assertion that there was still no equivalent product currently manufactured in the U.S.

On March 26, 2000, you amended your request by adding supporting information and requesting that the waiver be extended to include the improved version of the BHU, the BNA57. In an effort to obtain current market data, you stated that you employed the services of a Mr. Howard Waxman, Project Manager, Strategic Consulting & Research Group of Find/SVP to conduct a search for a U.S. manufacturer of the BHU which features multiple bill escrow functionality. You submit that no U.S. manufacturers were found, and that Ardac Inc., Coinco, Global Payment Technologies, Rowe International, and Singer Data Products, were all contacted. This letter incorporates, by reference, the information contained in the above-referenced correspondence.

Further, at FTA's request, Cubic Transportation Systems, Inc., a manufacturer of ticket vending machines and purchaser of BHU's for use in said machines, submitted information on the state of the market. Cubic contends by letter dated April 19, 2000, that based upon an extensive survey of the market, which is continuously updated by technical staff, there is no known U.S. manufacturer of BHU's that performs the functions listed herein.

FTA's requirements concerning domestic preference for federally funded transit projects are set forth in 49 U.S.C. § 5323(j). However, Section 5323(j)(2)(B) states that those requirements shall not apply if the item or items being procured are not produced in the U.S. in sufficient and reasonably available quantities and of a satisfactory quality. The implementing regulation also provides that a waiver may be requested “for a specific item or material that is used in the production of a manufactured product.” 49 CFR § 661.7(g). The regulations allow a bidder or supplier to request a waiver only if it is being sought under this section. See 49 CFR 661.7(g) and 49 CFR 661.9(d). This waiver would allow Mars to treat the BHU as domestic.

Based on the above-referenced information, I have determined that the grounds for a “nonavailability” waiver do exist. Therefore, pursuant to the provisions of 49 U.S.C. § 5323(j)(2)(B), the waiver is hereby granted for manufacture of the BNA57, BNA52/54 and the BSN383/39 BHU's for the period of two years, or until such time as a domestic source for this type of BHU becomes available, whichever occurs first. In order to insure that the public is aware of this waiver, particularly potential manufacturers, this waiver will be published in the Federal Register.

If you have any questions, please contact Meghan G. Ludtke at (202) 366-4011.

Very truly yours,

Gregory B. McBride,
Deputy Chief Counsel.

Issued on: October 19, 2000.
Nuria I. Fernandez,
Acting Administrator.

[FR Doc. 00-27298 Filed 10-23-00; 8:45 am]

BILLING CODE 4910-57-M